DEPARTMENT OF ENERGY

Environmental Management Site-Specific Advisory Board, Hanford

AGENCY: Department of Energy.

ACTION: Notice of open meeting.

SUMMARY: This notice announces a combined meeting of the Environmental Management Site-Specific Advisory Board (EM SSAB), Hanford (known locally as the Hanford Advisory Board [HAB]), River and Plateau, Tank Waste, Public Involvement, Health Safety and Environmental Protection and Budgets and Contracts Subcommittees. The Federal Advisory Committee Act (Pub. L. No. 92-463, 86 Stat. 770) requires that public notice of this meeting be announced in the Federal Register.

DATES: Wednesday, March 3, 2010, 8:30 a.m.-12 p.m.

ADDRESSES: Shilo Inn, 50 Comstock, Richland, WA 99352.

FOR FURTHER INFORMATION CONTACT: Paula Call, Federal Coordinator, Department of Energy Richland Operations Office, 825 Jadwin Avenue, P.O. Box 550, A7-75, Richland, WA, 99352; Phone: (509) 376-2048; or E-mail: Paula_K_Call@rl.gov.

SUPPLEMENTARY INFORMATION: Purpose of the Board: The purpose of the Board is to make recommendations to DOE-EM and site management in the areas of environmental restoration, waste management, and related activities.

Tentative Agenda: The main meeting topic will be the discussion of DOE's draft Long-Term Stewardship Plan for the Hanford site.

Public Participation: The meeting is open to the public. The EM SSAB, Hanford, welcomes the attendance of the public at its subcommittee meetings and will make every effort to accommodate persons with physical disabilities or special needs. If you require special accommodations due to a disability, please contact Paula Call at least seven days in advance of the meeting at the phone number listed above. Written statements may be filed with the Board either before or after the meeting. Individuals who wish to make oral statements pertaining to agenda items should contact Paula Call at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments. This notice is being published less than 15 days prior to the meeting date due to programmatic issues that had to be resolved prior to the meeting date.

Minutes: Minutes will be available by writing or calling Paula Call's office at the address or phone number listed above. Minutes will also be available at the following Web site: http://www.hanford.gov/page.cfm/hab.

Issued at Washington, DC, on February 18, 2010.
Rachel Samuel,
Deputy Committee Management Officer.

[FR Doc. 2010-3483 Filed 2-22-10; 8:45 am]

BILLING CODE 6405-01-P